DEPARTMENT OF HEALTH AND HUMAN SERVICES

National Institutes of Health

National Institute of Dental and Craniofacial Research; Amended Notice of Meeting

Notice is hereby given of a change in the meeting of the National Advisory Dental and Craniofacial Research Council, September 12, 2023, 4:45 p.m. to September 13, 2023, 3:30 p.m., National Institutes of Health, Natcher Building, 45 Center Drive, Bethesda, MD 20892, which was published in the Federal Register on August 17, 2023, FR Document 2023-17712, 88 FR 56028.

The National Advisory Dental and Craniofacial Research Council Open and Closed Sessions meeting room has changed from the Natcher Building, 45 Center Drive, Bethesda, MD 20892, and will now be held at the John Edward Porter Neuroscience Research Center Building, 35 Convent Drive Room 620/630, Bethesda, MD 20892. Meeting times remain the same. The meeting is partially closed to the public.

Dated: August 29, 2023.
Melanie J. Pantoja,
Program Analyst, Office of Federal Advisory Committee Policy.

[FR Doc. 2023-19017 Filed 9-1-23; 8:45 am]

BILLING CODE 4140-01-P